DEPARTMENT OF THE INTERIOR

National Park Service

[NPS-WASO-NAGPRA-NPS0035439; PPWOCRADN0-PCU00RP14.R50000]

Notice of Inventory Completion Amendment: U.S. Department of the Interior, Bureau of Indian Affairs, Washington, DC

AGENCY: National Park Service, Interior.

ACTION: Notice; amendment.

SUMMARY: In accordance with the Native American Graves Protection and Repatriation Act (NAGPRA), the U.S. Department of the Interior, Bureau of Indian Affairs (BIA) has amended a Notice of Inventory Completion published in the Federal Register on April 10, 2013. This notice amends the cultural affiliation of a collection removed from San Juan County, UT.

DATES: Repatriation of the human remains and associated funerary objects in this notice may occur on or after April 10, 2023.

ADDRESSES: Tamara Billie, NAGPRA Coordinator, Bureau of Indian Affairs, 1001 Indian School Road NW, Mailbox 44—Suite 345, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the amendments and determinations in this notice, including the results of consultation, can be found in the inventory or related records held by the BIA.

Amendment

This notice amends the determinations published in a Notice of Inventory Completion in the Federal Register (78 FR 21408-21409, April 10, 2013). Repatriation of the items in the original Notice of Inventory Completion has not occurred. The human remains and associated funerary objects are under the control of the BIA and in the physical custody of the University of Denver Museum of Anthropology. The human remains and associated funerary objects were removed from a site referenced as UT W:10:2, located south of the town of Bluff, in San Juan County, UT, and on the Navajo Indian Reservation. Based on geographic evidence, officials of the BIA have determined that the Native American human remains are culturally affiliated with the Navajo Nation, Arizona, New Mexico, & Utah.

Determinations (as Amended)

Pursuant to NAGPRA and its implementing regulations, and after consultation with the appropriate Indian Tribes and Native Hawaiian organizations, the BIA has determined that:

• The human remains described in this amended notice represent the physical remains of one individual of Native American ancestry.

• The 47 objects described in this amended notice are reasonably believed to have been placed with or near individual human remains at the time of death or later as part of the death rite or ceremony.

• There is a relationship of shared group identity that can be reasonably traced between the human remains and associated funerary objects described in this notice and the Navajo Nation, Arizona, New Mexico, & Utah.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 10, 2023. If competing requests for repatriation are received, the BIA must determine the most appropriate requestor prior to repatriation. Requests for joint repatriation of the human remains and associated funerary objects are considered a single request and not competing requests. The BIA is responsible for sending a copy of this notice to the Indian Tribes and Native Hawaiian organizations identified in this notice.

Authority: Native American Graves Protection and Repatriation Act, 25 U.S.C. 3003, and the implementing regulations, 43 CFR 10.9, 10.10, 10.13, and 10.14.

Dated: March 1, 2023.
Melanie O'Brien,
Manager, National NAGPRA Program.

[FR Doc. 2023-04892 Filed 3-9-23; 8:45 am]

BILLING CODE 4312-52-P